DEPARTMENT OF THE INTERIOR

Fish and Wildlife Service

[Docket No. FWS-HQ-IA-2024-0033; FXIA16710900000-245-FF09A10000]

Convention on International Trade in Endangered Species of Wild Fauna and Flora, Conference of the Parties, Twentieth Regular Meeting; Request for Information and Recommendations on Species Proposals, Resolutions, Decisions, and Agenda Items for Consideration

AGENCY: Fish and Wildlife Service, Interior.

ACTION: Notice.

SUMMARY: To implement the Convention on International Trade in Endangered Species of Wild Fauna and Flora (CITES or the Convention), the Parties to the Convention meet periodically to review what species in international trade should be regulated as well as other aspects of CITES implementation. The twentieth regular meeting of the Conference of the Parties (CoP20) is tentatively scheduled to be held in the second half of 2025. The specific date and location of CoP20 are yet to be determined. With this notice, we are soliciting recommendations to amend Appendices I and II of CITES at CoP20 as well as recommendations for resolutions, decisions, and agenda items for discussion at CoP20. We invite you to provide us with information and recommendations on animal and plant species for which the United States should consider submitting proposals to amend Appendices I and II. Such proposals may concern the addition of species to Appendix I or Appendix II, the transfer of species from one Appendix to another, or the removal of species from the Appendices. We also invite you to provide us with information and recommendations on resolutions, decisions, and agenda items that the United States might consider submitting for discussion at CoP20. Finally, with this notice, we also describe the United States' approach to preparations for CoP20.

DATES: We will consider all information and comments that we receive on or before May 21, 2024.

ADDRESSES: You may submit comments by one of the following methods:

(1) Electronically: Using the Federal eRulemaking Portal: http://www.regulations.gov, search for FWS-HQ-IA-2024-0033, which is the docket number for this notice.

(2) U.S. mail: Mail comments to: Public Comments Processing, Attn: FWS-HQ-IA-2024-0033; U.S. Fish and Wildlife Service, MS: PRB (JAO/3W), 5275 Leesburg Pike, Falls Church, VA 22041-3803.

We will not accept email or faxes. Comments and materials we receive, as well as supporting documentation, will be available for public inspection on http://www.regulations.gov.

FOR FURTHER INFORMATION CONTACT: For information pertaining to species proposals, contact Rosemarie Gnam, Head, Division of Scientific Authority, 703-358-1708 (phone); 703-358-2276 (fax); or scientificauthority@fws.gov (email). For information pertaining to resolutions, decisions, and agenda items, contact Naimah Aziz, Head, Division of Management Authority, at 703-358-2493 (phone); or managementauthority@fws.gov (email). Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Background

The Convention is an international treaty aimed at ensuring that international trade in animal and plant species does not threaten their survival. Species are included in the Appendices to CITES and can be found on the CITES Secretariat's website at https://cites.org/eng/app/appendices.php.

Currently there are 184 Parties to CITES: 183 countries, including the United States, and the European Union—a regional economic integration organization. The Convention calls for regular meetings of the Conference of the Parties (CoP). The CoP has decided that these meetings should be held every 2-3 years. At the CoP meetings, the Parties review the implementation of CITES, make decisions regarding the financing and function of the CITES Secretariat located in Switzerland, consider amendments to Appendices I and II, consider reports presented by the Secretariat, and adopt recommendations for the improved effectiveness of CITES. Any Party to CITES may propose amendments to Appendices I and II, resolutions, decisions, and agenda items for consideration by all the Parties at the meeting.

This is our first in a series of Federal Register notices that, together with at least one public meeting (time and location to be announced), provide you with an opportunity to provide input into the development of the United States' submissions to and negotiating positions for CoP20. In our second CoP20 Federal Register notice, we will announce tentative species proposals and documents related to resolutions, decisions, and agenda items that the United States is considering submitting for CoP20 and will solicit further information and comments on them. Our regulations guiding this public process can be found in title 50 of the Code of Federal Regulations (CFR) at 23.87.

Announcement of the Twentieth Meeting of the Conference of the Parties

We hereby notify all interested entities of the convening of CoP20, which is tentatively scheduled to be held in the second half of 2025 at a location to be determined. The CITES Secretariat is currently seeking expressions of interest from Parties to host CoP20.

United States Approach for CoP20

What are the priorities for United States submissions to CoP20?

Priorities for United States submissions to CoP20 continue to be consistent with the overall objective of United States participation in CITES: To maximize the effectiveness of the Convention in the conservation and sustainable use of species subject to international trade. With that in mind, we consider the following factors in determining what issues to submit for inclusion in the agenda at CoP20:

(1) Does the proposed action address a serious wildlife or plant trade issue that the United States is experiencing as a range country for the species in trade or as a major trader for the species? Since the primary responsibility of the U.S. Fish and Wildlife Service is the conservation of our domestic wildlife resources, we will give native species the highest priority. We will place particular emphasis on terrestrial and freshwater species with the majority of their range in the United States and its territories that are or may be traded in significant numbers; marine species that occur in United States waters or for which the United States is a major trader; and threatened and endangered species for which we and other Federal and State agencies already have statutory responsibility for protection and recovery. We also consider CITES listings as a proactive measure to monitor and manage trade in native species to preclude the need for the application of stricter measures, such as listing under the Endangered Species Act of 1973, as amended (16 U.S.C. 1531 et seq.), or inclusion in CITES Appendix I.

(2) Does the proposed action address a serious wildlife or plant trade issue for species not native to the United States? As a major importer of wildlife, plants, and their products, the United States has taken responsibility, by working in close consultation with range countries, for addressing cases of potential over-exploitation of foreign species in the wild. In some cases, the United States may not be a range country or a significant trading country for a species, but we will work closely with other countries to conserve species being threatened by unsustainable exploitation for international trade. We will consider CITES listings for species not native to the United States if these listings will assist in addressing cases of known or potential over-exploitation of foreign species in the wild, and in preventing illegal, unregulated trade, especially if the United States is a major importer. These species will be prioritized based on the extent of trade and status of a species and also the role the species plays in the ecosystem, with emphasis on those species for which CITES inclusion would provide the greatest conservation benefits to the species, associated species, and their habitats.

(3) Does the proposed action provide additional conservation benefit for a species already covered by another international agreement? The United States will consider the inclusion of such a species in the CITES Appendices when such inclusion would enhance the conservation of the species by ensuring that international trade is effectively regulated and not detrimental to the survival of the species.

Request for Information and Recommendations for Amending Appendices I or II

Through this notice, we solicit information and recommendations that will help us identify species that the United States could propose for addition to, removal from, or reclassification in the CITES Appendices, or to identify issues warranting attention by the CITES specialists on zoological and botanical nomenclature. This request is not limited to species occurring in the United States. We encourage the submission of information on any species for possible inclusion in, transfer between, or removal from the Appendices, including if those species are subject to international trade that is, or may become, detrimental to the survival of the species. We also encourage you to keep in mind the approach to CoP20, described above in this notice, when considering what proposals the United States should submit to amend the Appendices.

We ask that you submit robust information describing: (1) The status of the species, especially trend information; (2) conservation and management programs for the species, including the effectiveness of implementation and enforcement efforts; and (3) the level of international as well as domestic trade in the species, especially trend information. Please also provide any other relevant information, including a list of references. Although not required, we appreciate receiving complete proposals.

The term “species” is defined under CITES as “any species, subspecies, or geographically separate population thereof.” Each species for which trade is controlled under CITES is included in one of three Appendices, either as a separate listing or incorporated within a higher taxonomic listing. The basic standards for inclusion of species in the Appendices are contained in Article II of CITES (text of the Convention is on the CITES Secretariat's website at https://cites.org/eng/disc/text.php). Appendix I includes species threatened with extinction that are or may be affected by trade. Appendix II includes species that, although not necessarily now threatened with extinction, may become so unless trade in them is strictly controlled. Appendix II also includes species that must be subject to regulation in order that trade in other CITES-listed species may be brought under effective control. Inclusion of such “look alike” species is usually necessary because of the difficulty inspectors have at ports of entry or exit in distinguishing one species from other species. Because Appendix III includes species that have been included in the Appendix unilaterally by a Party, we are not seeking input on possible United States Appendix-III listings with this notice, and we will not consider or respond to comments received concerning Appendix-III listings.

CITES regulates international trade in whole animals and plants (whether alive or dead) as well as in any readily recognizable parts or derivatives of animals included in Appendices I or II, and plants included in Appendix I. With certain exclusions formally approved by the Parties through the adoption of annotations, the same applies to the readily recognizable parts and derivatives of plant species included in Appendix II. In summary, when a species is included in Appendix I or II, the whole, live or dead, animal or plant is always included. In addition, all parts and derivatives thereof are also included in the same Appendix unless, for plant species included in Appendix II, the species is annotated to indicate that only specific parts and derivatives are included. Parts and derivatives often not included (i.e., not regulated) for Appendix-II plants include: seeds, spores, pollen (including pollinia), leaves, and fruit. Please refer to the CITES Appendices on the Secretariat's website at https://cites.org/eng/app/appendices.php for information on further exceptions and limitations.

In 1994, the CITES Parties adopted criteria for inclusion of species in Appendices I and II (in Resolution Conf. 9.24 (Rev. CoP17); see https://cites.org/sites/default/files/documents/COP/19/resolution/E-Res-09-24-R17.pdf. These criteria apply to all proposals to amend the CITES Appendices I and II and are available from the CITES Secretariat's website at http://www.cites.org/eng/res/index.php or upon request from the Division of Scientific Authority (contact information provided above in FOR FURTHER INFORMATION CONTACT). Resolution Conf. 9.24 (Rev. CoP17) also provides a format for proposals to amend the Appendices. This information is available upon request from the Division of Scientific Authority (contact information provided above in FOR FURTHER INFORMATION CONTACT).

What information should be submitted for proposals to amend Appendices I and II?

In any recommendations you submit for possible proposals to amend Appendices I and II, please include as much of the following information about the species as possible in your submission:

(1) Scientific name and common name;

(2) Population size estimates (including references if available);

(3) Population trend information;

(4) Threats to the species (other than trade);

(5) The level or trend of international trade (be as specific as possible, but without a request for new searches of our records);

(6) The level or trend in total take from the wild (as specific as reasonable); and

(7) A short summary statement clearly presenting the rationale for inclusion in, or removal or transfer from, one of the Appendices, including which of the criteria in Resolution Conf. 9.24 (Rev. CoP17) are met.

If you wish to submit more complete proposals for us to consider, please consult Resolution Conf. 9.24 (Rev. CoP17) for the format for proposals and a detailed explanation of each of the categories. Proposals to transfer a species from Appendix I to Appendix II, or to remove a species from the Appendices, must also be in accordance with the precautionary measures described in Annex 4 to Resolution Conf. 9.24 (Rev. CoP17).

What will we do with information we receive?

The information that you submit will help us decide if we should submit, or co-sponsor with one or more other Parties, a proposal to amend the CITES Appendices. However, there may be species that qualify for inclusion in CITES Appendices I or II for which we decide not to submit a proposal to CoP20. Our decision will be based on several factors, including the priorities we outlined above in the United States' approach to CoP20. We will consult range countries for foreign species, and for species whose range the United States shares with one or more other countries.

One important function of the CITES Scientific Authority of each Party country is monitoring international trade in plant and animal species, and ongoing scientific assessments of the impact of such trade on species. For United States native species included in Appendices I and II, we monitor trade through export permits issued so that we can prevent over-utilization and restrict exports if necessary. We work closely with States and Native American Tribes to ensure that species are appropriately listed in the CITES Appendices. For these reasons, we actively seek information about United States and foreign species subject to international trade.

Request for Information and Recommendations on Resolutions, Decisions, and Agenda Items

Although we have not yet received formal notice of the provisional agenda for CoP20, we invite your input on possible agenda items that the United States could recommend for inclusion on the agenda, and on possible resolutions and decisions of the CoP that the United States could submit for consideration. Copies of the agenda and the results of the last meeting of the CoP (CoP19), as well as copies of all currently valid Resolutions and Decisions of past CoPs, are available on the CITES Secretariat's website (http://www.cites.org/) or from the Division of Management Authority (contact information provided above in FOR FURTHER INFORMATION CONTACT).

Future Actions

As stated above, CoP20 is tentatively scheduled to be held in the second half of 2025, with a location to be determined. The United States must submit all proposals to amend Appendix I or II, and draft resolutions, decisions, or agenda items for discussion at CoP20, to the CITES Secretariat 150 days prior to the start of the meeting. To meet this deadline and to prepare for CoP20, we plan to keep the public informed about the CoP through a series of additional Federal Register notices and website postings in advance of CoP20. We will announce the tentative species proposals and proposed resolutions, decisions, and agenda items that the United States is considering submitting to CoP20 and solicit further information and comments on them. We will post on our website an announcement of the species proposals, draft resolutions, draft decisions, and agenda items submitted by the United States to the CITES Secretariat for consideration at CoP20. Finally, we will inform you about preliminary negotiating positions on resolutions, decisions, and amendments to the Appendices proposed by other Parties for consideration at CoP20, and about how to obtain observer status. We will also publish an announcement of a public meeting tentatively to be held approximately 2-3 months prior to CoP20, which will provide an opportunity to receive public input on our positions regarding CoP20 issues. The procedures for developing United States' documents and negotiating positions for a meeting of the Conference of the Parties to CITES are outlined in 50 CFR 23.87. As noted, we may modify or suspend the procedures outlined there if they would interfere with the timely or appropriate development of documents for submission to the CoP and U.S. negotiating positions.

Public Availability of Comments

Before including your address, phone number, email address, or other personal identifying information in your comment, please be aware that your entire comment—including your personal identifying information—may be made publicly available. If you submit a hardcopy comment that includes personal identifying information, you may request at the top of your document that we withhold this information from public review; however, we cannot guarantee that we will be able to do so.

Author

The primary authors of this notice are Thomas Leuteritz, Division of Scientific Authority, and Mark Hofberg, Division of Management Authority, United States Fish and Wildlife Service.

Authority

The authority for this action is the Endangered Species Act of 1973, as amended (16 U.S.C. 1531 et seq.).

Martha Williams,
Director, U.S. Fish and Wildlife Service.

[FR Doc. 2024-06064 Filed 3-21-24; 8:45 am]

BILLING CODE 4333-15-P